DEPARTMENT OF DEFENSE

Office of the Secretary

Strategic Environmental Research and Development Program, Scientific Advisory Board

AGENCY: Department of Defense.

ACTION: Notice.

SUMMARY: In accordance with section 10(a)(2) of the Federal Advisory Committee Act (Pub. L. 92-463), announcement is made of the following Committee meeting:

DATES: September 17, 2002 from 0800 a.m. to 1700 p.m. and September 18, 2002 from 0800 a.m. to 1430 p.m.

ADDRESSES: Sea Crest Oceanfront Resort & Conference Center, 350 Quaker Road, North Falmouth, MA 02556-2943.

FOR FURTHER INFORMATION CONTACT: Ms. Betty Banks, SERDP Program Office, 901 North Stuart Street, Suite 303, Arlington, VA or by telephone at (703) 696-2126.

SUPPLEMENTARY INFORMATION:

Matters to be Considered

Research and Development proposals and continuing projects requesting Strategic Environmental Research and Development Program funds in excess of $1M will be reviewed.

This meeting is open to the public. Any interested person may attend, appear before, or file statements with the Scientific Advisory Board at the time and in the manner permitted by the Board.

Dated: August 27, 2002.
Patricia L. Toppings,
Alternate OSD Federal Register Liaison Officer, Department of Defense.

[FR Doc. 02-22417 Filed 9-3-02; 8:45 am]

BILLING CODE 5001-08-M